DEPARTMENT OF AGRICULTURE

Animal and Plant Health Inspection Service

[Docket No. 98-090-6]

RIN 0579-AB03

Classical Swine Fever; Availability of Risk Analysis Related to the Importation of Swine and Swine Products From France and Spain

AGENCY: Animal and Plant Health Inspection Service, USDA.

ACTION: Notice of availability and request for comments.

SUMMARY: We are advising the public that a risk analysis has been prepared by the Animal Plant Health Inspection Service (APHIS) relative to the risk of introducing classical swine fever virus in swine and swine products imported from France and Spain. This risk analysis is a supplement to a risk analysis prepared by APHIS titled “Risk Analysis for Importation of Classical Swine Fever Virus in Swine and Swine Products from the European Union—December 2000.” The supplemental risk analysis also identifies the administrative units in France and Spain that we would consider the smallest administrative units that could be considered “regions” in each of those countries. We are making this supplemental risk analysis available to the public for review and comment.

DATES: We will consider all comments we receive on or before January 23, 2004.

ADDRESSES: You may submit comments by postal mail/commercial delivery or by e-mail. If you use postal mail/commercial delivery, please send four copies of your comment (an original and three copies) to: Docket No. 98-090-6, Regulatory Analysis and Development, PPD, APHIS, Station 3C71, 4700 River Road Unit 118, Riverdale, MD 20737-1238. Please state that your comment refers to Docket No. 98-090-6. If you use e-mail, address your comment to regulations@aphis.usda.gov. Your comment must be contained in the body of your message; do not send attached files. Please include your name and address in your message and “Docket No. 98-090-6” on the subject line.

You may read the supplemental risk analysis and any comments that we receive on that document in our reading room. The reading room is located in room 1141 of the USDA South Building, 14th Street and Independence Avenue, SW., Washington, DC. Normal reading room hours are 8 a.m. to 4:30 p.m., Monday through Friday, except holidays. To be sure someone is there to help you, please call (202) 690-2817 before coming.

You may request a copy of the supplemental risk analysis by calling or writing to the person listed under FOR FURTHER INFORMATION CONTACT. The supplemental risk analysis is also available on the Internet. Instructions for accessing the supplemental risk analysis on the Internet are provided below under SUPPLEMENTARY INFORMATION.

APHIS documents published in the Federal Register, and related information, including the names of organizations and individuals who have commented on APHIS dockets, are available on the Internet at http://www.aphis.usda.gov/ppd/rad/webrepor.html.

FOR FURTHER INFORMATION CONTACT: Dr. Chip Wells, Senior Staff Officer, Regionalization Evaluation Services Staff, National Center for Import and Export, VS, APHIS, 4700 River Road Unit 38, Riverdale, MD 20737-1231; (301) 734-4356.

SUPPLEMENTARY INFORMATION:

Background

The Animal and Plant Health Inspection Service (APHIS) of the U.S. Department of Agriculture (the Department) regulates the importation of animals and animal products to guard against the introduction of animal diseases into this country. The regulations pertaining to the importation of animals and animal products are set forth in the Code of Federal Regulations (CFR), title 9, chapter I, subchapter D (9 CFR parts 91 through 99).

On June 25, 1999, we published in the Federal Register (64 FR 34155-34168, Docket No. 98-090-1) a proposal to, among other things, amend the regulations regarding the importation of swine and swine products from a region in the European Union (EU) consisting of Austria, Belgium, France, Greece, Italy, Luxembourg, the Netherlands, Portugal, Spain, and parts of Germany and Italy.

Before developing our proposed rule, we prepared a risk analysis to estimate the likelihood of introducing classical swine fever (CSF, which we referred to in the proposed rule as hog cholera) from the region, and to determine what, if any, mitigation measures we considered necessary. We assessed the likelihood of introducing CSF through the importation of live breeding swine, swine semen, and pork and pork products. We made the risk analysis available to the public during the comment period for the proposed rule.

We solicited comments concerning our proposed rule for 60 days ending August 24, 1999. One of the comments we received expressed concerns with several aspects of our risk analysis. Based on that comment, and as recommended by the Department's Office of Risk Assessment and Cost Benefit Analysis, we revised our risk analysis and included a supplement that presented in more detail specific information about CSF outbreaks in the EU. The revised risk analysis is titled “Risk Analysis for Importation of Classical Swine Fever Virus in Swine and Swine Products from the European Union—December 2000.”

On April 7, 2003, we published in the Federal Register (68 FR 16922-16940, Docket No. 98-090-5) a final rule amending the regulations to recognize a region in the EU consisting of Austria, Belgium, Greece, the Netherlands, Portugal, and parts of Germany and Italy as free of CSF. In that final rule, APHIS did not recognize France or Spain as free of CSF because CSF outbreaks had occurred in each of those countries after the publication of our June 1999 proposed rule.

In our April 2003 final rule, we continued to consider all of France and Spain affected with CSF, even though outbreaks had occurred only in limited areas of those countries, because we had not yet defined the administrative units in those countries we would use to consider less than the entire country affected with CSF. Since the outbreaks, each of the affected countries took action to eradicate CSF. The last affected herds were depopulated in Spain on April 30, 2002, and in France on April 29, 2002.

Following the elimination of CSF in domestic swine in France and Spain, we prepared a supplemental risk analysis to examine the risk of introducing CSF from the importation of swine and swine products from those countries. For the supplemental risk analysis, we used the applicable information from the risk analyses we conducted for the June 1999 proposed rule and the April 2003 final rule, as well as information made available following the outbreak and elimination of CSF in those countries.

We are giving notice that the supplemental risk analysis is available for public review and are requesting comments on the supplemental risk analysis for 60 days. The supplemental risk analysis addresses the current CSF situation in France and Spain and identifies the administrative units we would use to regionalize France and Spain in the event of future disease outbreaks in those counties. The supplemental risk analysis and any comments received will be the basis for determining whether to publish a final rule to: (1) Include France and Spain as part of the EU region recognized in our April 2003 final rule as one in which CSF is not known to exist, and from which breeding swine, swine semen, and pork and pork products may be imported into the United States under certain conditions in the absence of restrictions associated with other foreign animal diseases of swine; and (2) identify the smallest administrative units in France and Spain we will use to regionalize those countries in the event of a disease outbreak. We will address any comments we receive on the supplemental risk analysis in a future document in the Federal Register.

Accessing the Supplemental Risk Analysis on the Internet

The supplemental risk analysis is available on the Internet at http://www.aphis.usda.gov/vs/ncie/reg-request.html. At the bottom of that Web site page, click on “Information previously submitted by Regions requesting export approval and their supporting documentation.” At the next screen, click on the triangle beside “European Union/ Not Specified/Classical Swine Fever,” then click on the triangle beside “Response by APHIS,” which will reveal a link for “APHIS Supplemental Risk Analysis for Importation of the Classical Swine Fever Virus in Swine and Swine Products from France and Spain.” Following that link will allow you to view the supplemental risk analysis.

Authority: 7 U.S.C. 450, 1622, 7701-7772, and 8301-8317; 21 U.S.C. 136 and 136a; 31 U.S.C. 9701; 42 U.S.C. 4331 and 4332; 7 CFR 2.22, 2.80, and 371.4.

Done in Washington, DC, this 18th day of November, 2003.
Kevin Shea,
Acting Administrator, Animal and Plant Health Inspection Service.

[FR Doc. 03-29231 Filed 11-21-03; 8:45 am]

BILLING CODE 3410-34-P